DEPARTMENT OF ENERGY

Federal Energy Regulatory Commission

[Docket No. ER04-699-000]

Entergy Services, Inc. Notice of Technical Conference

October 26, 2004.

Notice is hereby provided that a conference will be held on Monday, November 8, 2004 from 10 a.m. to 4 p.m. (central time) to further address the role of the Independent Coordinator of Transmission (ICT) proposed by Entergy Services, Inc. (Entergy), in the above referenced proceeding and that is the subject of various retail proceedings. The conference will be held at the Arkansas Public Service Commission (APSC), 1000 Center Street, Little Rock, Arkansas 72203-0400. The conference will be held in Hearing Room 1. Public parking is available on the east side of the APSC building, across from Center Street.

All interested persons may attend. Parties planning to attend the conference should notify both Ms. Joy Rice of the APSC ((501) 682-5809; joyrice@psc.state.ar.us) and Ms. Sarah McKinley of the Federal Energy Regulatory Commission (FERC) ((202) 502-8004; sarah.mckinley@ferc.gov). Each party should identify to both Ms. Rice and Ms. McKinley each person that plans to attend and one person to act as the official representative of that party for providing remarks at the conference. Additional information will be provided prior to the conference. State regulators are expected to participate in the conference, along with staff of the FERC.

Magalie R. Salas
Secretary.

[FR Doc. E4-2966 Filed 11-1-04; 8:45 am]

BILLING CODE 6717-01-P